DEPARTMENT OF ENERGY

Federal Energy Regulatory Commission

Orion Power New York GP II, Inc., Notice of Availability of Environmental Assessment

May 27, 2003.

In accordance with the National Environmental Policy Act of 1969 and the Federal Energy Regulatory Commission's (Commission) regulations, 18 CFR part 380 (Order No. 486, 52 FR 47,897), the Office of Energy Projects has reviewed the application for license for the Newton Falls Hydroelectric Project, located on Oswegatchie River in St. Lawrence County, New York, and prepared an environmental assessment (EA). The EA contains staff's analysis of the environmental effects of the proposal and concludes that approval, with additional staff-recommended measures, would not constitute a major federal action significantly affecting the human environment.

A copy of the EA is available for review at the Commission in the Public Reference Room, or it may be viewed on the Commission's Web site at http://www.ferc.gov using the “FERRIS” link. Enter the docket number, excluding the last three digits in the docket number field, to access the document. Register online at http://www.ferc.gov/esubscribenow.htm to be notified via email of new filings and issuances related to this or other pending projects. For assistance, please contact FERC Online Support at FERCOnlineSupport@ferc.gov or toll-free at (866) 208-3676, or for TTY, contact (202) 502-8659.

Please file any comments (an original and 8 copies) within 45 days from the date of this letter. The comments should be addressed to Magalie R. Salas, Secretary, Federal Energy Regulatory Commission, 888 First Street, NE., Washington, DC 20426. Please affix the Project No. 7000-015 to all comments. Comments may be filed electronically via the Internet in lieu of paper (see 18 CFR 385.2001(a)(1)(iii)) and the instructions on the Commission's Web site at http://www.ferc.gov under the “e-filing” link. The Commission strongly encourages electronic filings.

Please contact Janet Hutzel at (202) 502-8675, or by e-mail at janet.hutzel@ferc.gov if you have any questions or if you require further information.

Magalie R. Salas,
Secretary.

[FR Doc. 03-13741 Filed 6-2-03; 8:45 am]

BILLING CODE 6717-01-P